FEDERAL MARITIME COMMISSION

Ocean Transportation Intermediary License Applicants

Notice is hereby given that the following applicants have filed with the Federal Maritime Commission an application for license as a Non-Vessel- Operating Common Carrier and Ocean Freight Forwarder—Ocean Transportation Intermediary pursuant to section 19 of the Shipping Act of 1984 as amended (46 U.S.C. app. 1718 and 46 CFR 515).

Persons knowing of any reason why the following applicants should not receive a license are requested to contact the Office of Transportation Intermediaries, Federal Maritime Commission, Washington, DC 20573.

Non-Vessel-Operating Common Carrier Ocean Transportation Intermediary Applicants:

Braid Logistics (North America), Inc., 5642 Shirley Lane, Houston, TX 77032, Officer: Michael Ng, Treasurer, (Qualifying Individual).

PNX Global, Inc. dba Terramar Logistics Int'l, 2065 Venice Blvd., Ste. C, Los Angeles, CA 90006, Officers: Chul H. Choi, CEO, (Qualifying Individual). Kyu H. Whang, CFO.

SBB International Shipping LLC, 100 Plaza Drive, Ste. 102, Secaucus, NJ 07094, Officer: Ozgur Cebioglu, Manager, (Qualifying Individual).

Sky Express World Courier, Inc., 1740 S. Los Angeles Street, Ste. 201, Los Angeles, CA 90015, Officers: Gyou H. Ahn, Secretary, (Qualifying Individual). Hyoungtae Kim, CEO.

Pentagon Freight, Inc., 2113 Treeridge Circle, Brea, CA 92821, Officers: Jenny Jie Kang Yang, CEO, (Qualifying Individual). Bao Chen, Vice President.

Non-Vessel—Operating Common Carrier and Ocean Freight Forwarder Transportation Intermediary Applicants:

SBB International Shipping LLC, 100 Plaza Drive, Ste. 102, Secaucus, NJ 07094, Officer: Ozgur Cebioglu, Manager, (Qualifying Individual).

USKO Shipping, 4021 Hillswood Dr., Sacramento, CA 95821, Roman Z. Skots, Sole Proprietor.

Group JDS, Inc., 790 NW. 107 Ave., Ste. 306, Miami, FL 33172, Officer: Jorge L. Castano, President, (Qualifying Individual).

Total Commerce Corp. dba Pentabox, 3410 NW. 73 Avenue, Miami, FL 33122, Officer: Carmen G. Mayer, President, (Qualifying Individual).

ALO Enterprise Corporation, 225 Chambers Street, Trenton, NJ 08609, Officers: Amr M. Rihan, CEO, (Qualifying Individual). Fida Dahrouj, Vice President.

Ace Relocation Systems, Inc., 5608 Eastgate Drive, San Diego, CA 92121, Officer: Daniel J. Lammers, Vice President, (Qualifying Individual).

Omnitrans Corp., Ltd., 111 Broadway, Ste. 1705B, New York, NY 10006, Hermann V. AmsZ, Sole Proprietor.

Assure Shipping, LLC, 9462 Stevens Ave., So., Bloomington, MN 55420, Officer: Jane Mahowald, CEO, (Qualifying Individual).

Megatrans Logistics, Inc. dba Orion, International Mega-Logistics, 2129 NW. 86th Avenue, Doral, FL 33122, Officers: Lilian D. Cobo, Secretary, (Qualifying Individual). Lilian M. Cobo, President.

Azap Motors Inc., 5433 Buffalo Avenue, Jacksonville, FL 32208, Officer: Ali Y. Hussein, President, (Qualifying Individual).

Commodity Forwarders, Inc., 11101 S. La Cienega Blvd., Los Angeles, CA 90045, Officers: Chris A. Connell, President, (Qualifying Individual). Alfred Kuehlewind, CEO.

Barthco International, Inc., dba OHL-International, 5101 S. Broad Street, Philadelphia, PA 19112, Officers: Ed M. Piza, Vice President, (Qualifying Individual). Scott McWilliams, CEO.

Ocean Freight Forwarder—Ocean Transportation Intermediary Applicants:

D. Hauser, Inc., 1555 Fording Island Rd., Ste. E, Hilton Head, SC 29926, Officer: Michael J. Bonvissuto, Jr., Exec. V. President. (Qualifying Individual).

SBB Shipping USA Inc., 100 Plaza Drive, 1st Floor, Secaucus, NJ 07094, Officer: Ozgur Cebioglu, Treasurer, (Qualifying Individual).

Daniel L. Vesque LCHB, 100 Plaza Drive, Ste. 102, Secaucus, NJ 07094, Daniel L. Vesque, Sole Proprietor.

Total Global Solutions, Inc., 4290 Bells Ferry Road, Ste. #224, Kennesaw, GA 30144, Officer: Tomomi Hamamura, CFO, (Qualifying Individual).

Dated: December 24, 2009.
Karen V. Gregory,
Secretary.

[FR Doc. E9-30962 Filed 12-29-09; 8:45 am]

BILLING CODE P